DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Ritron, Incorporated

[Waiver Petition Docket Number FRA-2009-0015]

Ritron, Incorporated (Ritron) seeks a waiver of compliance from certain provisions of 49 CFR part 232, Brake System Safety Standards for Freight and Other Non-Passenger Trains and Equipment. Specifically, Section 232.409(d)—Inspection and testing of end-of-train devices, which requires the telemetry equipment to be tested for accuracy and calibrated, if necessary at least every 368 days. It also requires that the date and location of the last calibration or test, as well as the name of the person performing the calibration or test, be legibly displayed on a weather-resistant sticker or other marking device affixed to the outside of both the front and the rear unit.

This petition concerns Ritron models DTX-445 and DTX-454 radio transceiver modules. While the DTX-445 is a new product, it is similar in mechanical and electrical design to the model DTX-442, and its field reliability statistical performance should be representative of the performance of the DTX-445. The DTX-454 is an established product, having been in production for 7 years. These modules are used in a large number of U.S. railroad head-of-train (HOT) and end-of-train (EOT) devices manufactured and sold by various companies. The Ritron DTX transceiver module line has been in production from 4 to 8 years, depending upon the specific module. These transceivers use a master reference oscillator to determine the frequency stability of the transmitted signal. The actual transmitted signal is phase-locked to this master oscillator by the phase-locked loop (PLL). Circuitry within the PLL determines when the system is in “lock” and will prevent or inhibit transmission if the transmitted signal is not on frequency. The master oscillator, itself, is specified to a much higher accuracy than that required by Federal regulations. This oscillator is used in all of Ritron's extensive radio offerings and, to date, has never had a failure due to being out of tolerance.

In addition, the modulation circuitry used in the DTX radios is based upon very stable limiting operational amplifiers followed by passive filters and potentiometers. This has proven to be extremely reliable and has not produced any failures related to out-of-band emissions. The power control circuitry is different in the various versions of the DTX family, but is based either on a closed loop final amplifier current sensing design or an open loop lookup table. Both have shown to work well in the field and are believed to have caused little, if any, service issues.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0015) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on June 10, 2010.
Robert C. Lauby,
Deputy Associate Administrator for Regulatory and Legislative Operations.

[FR Doc. 2010-14479 Filed 6-16-10; 8:45 am]

BILLING CODE 4910-06-P